DEPARTMENT OF HEALTH AND HUMAN SERVICES

Centers for Medicare & Medicaid Services

[Document Identifier: CMS-855R, CMS-2746, CMS-2728, and CMS-10065/10066]

Agency Information Collection Activities: Proposed Collection; Comment Request

AGENCY: Centers for Medicare & Medicaid Services, HHS.

ACTION: Notice.

SUMMARY: The Centers for Medicare & Medicaid Services (CMS) is announcing an opportunity for the public to comment on CMS' intention to collect information from the public. Under the Paperwork Reduction Act of 1995 (the PRA), federal agencies are required to publish notice in the Federal Register concerning each proposed collection of information (including each proposed extension or reinstatement of an existing collection of information) and to allow 60 days for public comment on the proposed action. Interested persons are invited to send comments regarding our burden estimates or any other aspect of this collection of information, including the necessity and utility of the proposed information collection for the proper performance of the agency's functions, the accuracy of the estimated burden, ways to enhance the quality, utility, and clarity of the information to be collected, and the use of automated collection techniques or other forms of information technology to minimize the information collection burden.

DATES: Comments must be received by April 23, 2019.

ADDRESSES: When commenting, please reference the document identifier or OMB control number. To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: Document Identifier/OMB Control Number __, Room C4-26-05, 7500 Security Boulevard, Baltimore, Maryland 21244-1850.

To obtain copies of a supporting statement and any related forms for the proposed collection(s) summarized in this notice, you may make your request using one of following:

1. Access CMS' website address at website address at https://www.cms.gov/Regulations-and-Guidance/Legislation/PaperworkReductionActof1995/PRA-Listing.html.

2. Email your request, including your address, phone number, OMB number, and CMS document identifier, to Paperwork@cms.hhs.gov.

3. Call the Reports Clearance Office at (410) 786-1326.

FOR FURTHER INFORMATION CONTACT: William N. Parham at (410) 786-4669.

SUPPLEMENTARY INFORMATION:

Contents

This notice sets out a summary of the use and burden associated with the following information collections. More detailed information can be found in each collection's supporting statement and associated materials (see ADDRESSES).

CMS-855R Reassignment of Medicare Benefits

CMS-2746 End Stage Renal Disease Death Notification

CMS-2728 End Stage Renal Disease Medical Evidence Report Medicare Entitlement and/or Patient Registration

CMS-10065/10066 Hospital Notices: IM/DND

Under the PRA (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires federal agencies to publish a 60-day notice in the Federal Register concerning each proposed collection of information, including each proposed extension or reinstatement of an existing collection of information, before submitting the collection to OMB for approval. To comply with this requirement, CMS is publishing this notice.

Information Collection

1. Type of Information Collection Request: Extension; Title of Information Collection: Reassignment of Medicare Benefits; Use: The reassignment application is submitted at the time the provider/supplier first reassigns of his/her Medicare benefits to a group practice, as well as any subsequent reassignments, changes to current reassignment information or terminations of established reassignments as requested by the provider/supplier or group. The application is used by the Medicare Administrative Contractor (MAC) to collect data to assure the applicant has the necessary information that allows the MAC to correctly establish, change, or terminate the reassignment.

The collection and verification of reassignment information defends and protects our beneficiaries from illegitimate providers/suppliers. These procedures also protect the Medicare Trust Fund against fraud. It gathers information that allow Medicare contractors to ensure that the provider/supplier is not sanctioned from the Medicare and/or Medicaid program(s), or debarred, or excluded from any other Federal agency or program. The data (e.g., Social Security Numbers, Employer Identification Numbers) collected also ensures that the applicant has the necessary credentials to provide the health care services for which they intend to bill Medicare through the reassignment. This is sole instrument implemented for this purpose. Form Number: CMS-855R (OMB control number: 0938-1179); Frequency: Occasionally; Affected Public: Private Sector (Businesses or other for-profits, Not-for-profit institutions); Number of Respondents: 357,628; Number of Responses: 357,628; Total Annual Hours: 89,407. For policy questions regarding this collection, contact Kimberly McPhillips at 410-786-5374.

2. Type of Information Collection Request: Reinstatement of previously approved collection; Title of Information Collection: End Stage Renal Disease Death Notification; Use: The ESRD Death Notification form (CMS-2746) is completed by all Medicare-approved ESRD facilities upon death of an ESRD patient. Its primary purpose is to collect fact of death and cause of death of ESRD patients. The ESRD Program Management and Medical Information System (PMMIS) has the responsibility of collecting, maintaining and disseminating, on a national basis, uniform data pertaining to ESRD patients and their treatment of care. All renal facilities approved to participate in the ESRD program are required by Pub. L. 95-292 to supply data to this system. Form Number: CMS-2746 (OMB control number: 0938 -0448); Frequency: Yearly; Affected Public: Private Sector (Business or other for-profits, Not-for-Profit Institutions); Number of Respondents: 7,311; Total Annual Responses: 92,023; Total Annual Hours: 46,011.50. (For policy questions regarding this collection contact Gequinicia Polk at 410-786-2305.)

3. Type of Information Collection Request: Reinstatement of previously approved collection; Title of Information Collection: End Stage Renal Disease Medical Evidence Report Medicare Entitlement and/or Patient Registration; Use: The primary purpose of this form is to have a physician medically determine that a patient has end stage renal disease for purposes of filing for Medicare benefits. The End Stage Renal Disease (ESRD) Medical Evidence (CMS-2728) is completed for all ESRD patients either by the first treatment facility or by a Medicare-approved ESRD facility when it is determined by a physician that the patient's condition has reached that stage of renal impairment that a regular course of kidney dialysis or a kidney transplant is necessary to maintain life. The data reported on the CMS-2728 is to monitor and assess the quality and type of care provided to end stage renal disease beneficiaries. Collection of these data are also necessary for the maintenance of a single, nationwide kidney disease registry for dialysis, transplant, and prospective transplant patients. Form Number: CMS-2728 (OMB control number: 0938-0046); Frequency: Yearly; Affected Public: Private Sector (Business or other for-profits, Not-for-Profit Institutions); Number of Respondents: 7,311; Total Annual Responses: 138,000; Total Annual Hours: 103,500. (For policy questions regarding this collection contact Gequinicia Polk at 410-786-2305.)

4. Type of Information Collection Request: Revision of a currently approved collection; Title of Information Collection: Hospital Notices: IM/DND; Use The purpose of the IM is to inform beneficiaries and enrollees of their rights as hospital inpatients and how to request a discharge appeal by a Quality Improvement Organization (QIO) and how to file a request. For all Medicare beneficiaries, hospitals must deliver valid, written notice of a beneficiary's rights as a hospital inpatient, including discharge appeal rights. The hospital must use a standardized notice, as specified by CMS. This is satisfied by IM delivery.

Consistent with 42 CFR 405.1205 for Original Medicare and 422.620 for Medicare health plans, hospitals must provide the initial IM within 2 calendar days of admission. A follow-up copy of the signed IM is given no more than 2 calendar days before discharge. The follow-up copy is not required if the first IM is provided within 2 calendar days of discharge. In accordance with 42 CFR 405.1206 for Original Medicare and 422.622 for Medicare health plans, if a beneficiary/enrollee appeals the discharge decision, the beneficiary/enrollee and the QIO must receive a detailed explanation of the reasons services should end. This detailed explanation is provided to the beneficiary/enrollee using the DND, the second notice included in this renewal package. Form Number: CMS-10065/10066 (OMB control number: 0938-1019); Frequency: Yearly; Affected Public: Private Sector (Business or other for-profits, Not-for-Profit Institutions); Number of Respondents: 6,123; Total Annual Responses: 17,742,803; Total Annual Hours: 2,990,720. (For policy questions regarding this collection contact Janet Miller at 410-786-1799.)

Dated: February 15, 2019.
William N. Parham, III,
Director, Paperwork Reduction Staff, Office of Strategic Operations and Regulatory Affairs.

[FR Doc. 2019-03015 Filed 2-21-19; 8:45 am]

BILLING CODE 4120-01-P